NATIONAL ARCHIVES AND RECORDS ADMINISTRATION

Agency Information Collection Activities: Proposed Collection; Comment Request

AGENCY: National Archives and Records Administration (NARA).

ACTION: Notice.

SUMMARY: NARA is giving public notice that the agency proposes to request use of two new information collections. The first information collection consists of two forms, NA 14123 and NA 14124, used to register records management conference and training class attendees and to collect and process credit card payments. The second information collection is another form, NA Form 14115, Professional Researcher Listing Application Form, used by professional researchers who are available to perform research in NARA's holdings for the public. The public is invited to comment on the proposed information collection pursuant to the Paperwork Reduction Act of 1995.

DATES: Written comments must be received on or before March 17, 2003 to be assured of consideration.

ADDRESSES: Comments should be sent to: Paperwork Reduction Act Comments (NHP), Room 4400, National Archives and Records Administration, 8601 Adelphi Rd, College Park, MD 20740-6001; or faxed to 301-837-3213; or electronically mailed to tamee.fechhelm@nara.gov.

FOR FURTHER INFORMATION CONTACT: Requests for additional information or copies of the proposed information collection and supporting statement should be directed to Tamee Fechhelm at telephone number 301-837-1694, or fax number 301-837-3213.

SUPPLEMENTARY INFORMATION: Pursuant to the Paperwork Reduction Act of 1995 (Public Law 104-13), NARA invites the general public and other Federal agencies to comment on proposed information collections. The comments and suggestions should address one or more of the following points: (a) Whether the proposed information collections are necessary for the proper performance of the functions of NARA; (b) the accuracy of NARA's estimate of the burden of the proposed information collections; (c) ways to enhance the quality, utility, and clarity of the information to be collected; and (d) ways, including the use of information technology, to minimize the burden of the collection of information on respondents. The comments that are submitted will be summarized and included in the NARA request for Office of Management and Budget (OMB) approval. All comments will become a matter of public record. In this notice, NARA is soliciting comments concerning the following information collections:

1. Title: Records Management Conference Electronic Registration Form and Records Management Training Class Registration Form.

OMB number: 3095-NEW.

Agency form number: NA Forms 14123 and 14124.

Type of review: Regular.

Affected public: Business or for-profit, nonprofit organizations and institutions, and federal, state and local government agencies.

Estimated number of respondents: 400.

Estimated time per response: 5 minutes.

Frequency of response: On occasion.

Estimated total annual burden hours: 33 hours.

Abstract: Each year NARA conducts a records management conference and a variety of records management training classes. Federal Government employees and interested state and local government and private sector individuals such as contractors and vendors also attend the records management conference and training classes. Attendees are required to pre-register for both the records management conference and for the records management training classes and these forms provide for standardized collection of necessary registration and payment information.

2. Title: Professional Researcher Listing Application Form.

OMB number: 3095-NEW.

Agency form number: NA Form 14115.

Type of review: Regular.

Affected public: Business or for-profit, nonprofit organizations and institutions, federal, state and local government agencies, and individuals or households.

Estimated number of respondents: 100.

Estimated time per response: 9 minutes.

Frequency of response: On occasion.

Estimated total annual burden hours: 15 hours.

Abstract: NARA is not authorized or funded to undertake, at our customer's requests, in-depth research into the records within our holdings. Some customers, however, are not able to undertake such research themselves, due to a variety of reasons, including geographic distance from our facilities, lack of time, and financial constraints. In the past, NARA has provided these individuals, on request, information about professional researchers who had advised us, on their own initiative, that they were interested in performing freelance research for hire at our facilities. Following a recent review of this process, however, NARA concluded that the information was neither collected, maintained, nor disseminated in the most efficient and effective manner. To better serve all customers, NARA created NA Form 14115, Professional Researcher Listing Application Form. The new form should help NARA to improve (1) program efficiency and effectiveness, as mandated by the Government Performance and Results Act, and (2) service to our customers.

Dated: January 7, 2003.
L. Reynolds Cahoon,
Assistant Archivist for Human Resources and Information Services.

[FR Doc. 03-886 Filed 1-15-03; 8:45 am]

BILLING CODE 7515-01-P